DEPARTMENT OF AGRICULTURE

Center for Nutrition Policy and Promotion; Agency Information Collection Activities; Proposed Collection; Comment Request—Consumer Food Guide Pyramid Study

AGENCY: Center for Nutrition Policy and Promotion, USDA.

ACTION: Notice.

SUMMARY: In accordance with the Paperwork Reduction Act of 1995, this notice invites the general public and other public agencies to comment on a proposed information collection. This notice announces the Center for Nutrition Policy and Promotion's intention to request the Office of Management and Budget approval of the information collection instruments to be used during consumer research with focus groups of consumers to identify key issues of concern related to understanding and use of the Food Guide Pyramid. The information collected will be used in the reassessment and potential revision of the Food Guide Pyramid.

DATES: Written comments on this notice must be submitted on or before February 1, 2002.

ADDRESSES: Comments are invited on (a) Whether the proposed collection of information is necessary for the proper performance of the functions of the agency, including whether the information will have practical utility; (b) the accuracy of the agency's estimate of the burden of the propose collection of information, including the validity of the methodology and assumptions used; (c) ways to enhance the quality, utility and clarity of the information collected; and (d) ways to minimize the burden of the collection of information on those who are to respond, including through the use of appropriate automated, electronic, mechanical, or other technological collection techniques or other forms of information technology. Comments may be sent to Carole Davis, Nutrition Promotion Staff Director, Center for Nutrition Policy and Promotion, U.S. Department of Agriculture, 3101 Park Center Drive, Room 1034, Alexandria Virginia, 22302.

All responses to this notice will be summarized and included in the request for Office of Management and Budget (OMB) approval, All comments will also become a matter of public record.

FOR FURTHER INFORMATION CONTACT: Requests for additional information should be directed to Patricia Britten, (703) 305-2477.

SUPPLEMENTARY INFORMATION: Title: Consumer Food Guide Pyramid Study.

OMB Number: Not assigned yet.

Expiration Date: Not applicable.

Type of Request: New collection of information.

Abstract: The U.S. Department of Agriculture's Food Guide Pyramid is designed to help all healthy Americans two years of age and over implement the Dietary Guidelines for Americans. The proposed qualitative consumer research will describe consumers' understanding and use of the Food Guide Pyramid along with possible barriers to following the Pyramid's guidance. This study involves eighteen focus group sessions, 6 with general consumers and 4 each with the elderly, overweight, and food stamp recipients, to explore how consumers understand the concepts and messages of the consumer brochure and graphic illustration of the Food Guide Pyramid. The study will also obtain feedback on how and to what extent consumers use the Pyramid to make food choices, and will help to identify any barriers they face in applying Pyramid recommendations to their food choices. The information gathered along with additional information will be used by USDA in the reassessment and potential revision of the Food Guide Pyramid, and in message development and other communications efforts used to promote the Pyramid.

Affected Public: Adult Consumers.

Estimated Number of Respondents: 180.

Estimated Time Per Response: 2 hours.

Estimated Total Annual Burden on Respondents: 360 hours.

Dated: November 28, 2001.
Steven N. Christensen,
Acting Deputy Director, Center for Nutrition Policy and Promotion.

[FR Doc. 01-29852 Filed 11-30-01; 8:45 am]

BILLING CODE 3410-30-U